DEPARTMENT OF TRANSPORTATION

Surface Transportation Board

[STB Finance Docket No. 34208]

Soo Line Railroad Company—Trackage Rights Exemption—Hennepin County Regional Rail Authority

Hennepin County Regional Rail Authority (HCRRA), pursuant to a written trackage rights agreement ¹ entered into between HCRRA and Soo Line Railroad Company (Soo), d/b/a Canadian Pacific Railway (CPR),² has agreed to grant trackage rights to CPR over HCRRA's rail line from a point of connection with existing trackage rights in the City of Minneapolis, MN, at or near CNW milepost 16.2,³ to approximately 330 feet west in the City of St. Louis Park, MN, at a point of connection with Soo-owned trackage located at or near Soo milepost 428.38, engineering station 381.90, at or near CNW milepost 16.3.⁴

¹ A redacted version of the trackage rights agreement was filed with the notice of exemption. The full version of the agreement, as required by 49 CFR 1180.6(a)(7)(ii), was concurrently filed under seal along with a motion for protective order. A protective order is being served on August 5, 2002.

² Soo is a wholly owned subsidiary of CPR.

³ Some of the trackage and right-of-way in the vicinity was formerly owned by the Chicago and North Western Transportation Company (CNW).

⁴ CPR agreed to sell this segment of Soo's track to HCRRA. The segment is adjacent to track already owned by HCRRA over which CPR and the Twin Cities & Western Railroad Company have trackage rights under an August 10, 1998 agreement that will be supplemented to include this line segment under its terms.

The transaction was scheduled to be consummated on or shortly after July 30, 2002, the effective date of the exemption (7 days after the exemption was filed).

The purpose of the trackage rights is to allow CPR to continue to hold rights to operate over a 330-foot section of trackage that is being sold to HCRRA by CPR.

As a condition to this exemption, any employees affected by the trackage rights will be protected by the conditions imposed in Norfolk and Western Ry. Co.—Trackage Rights—BN, 354 I.C.C. 605 (1978), as modified in Mendocino Coast Ry., Inc.-Lease and Operate, 360 I.C.C. 653 (1980).

The notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34208, must be filed with the Surface Transportation Board, 1925 K Street, NW., Washington, DC 20423-0001. In addition, a copy of each pleading must be served on Diane P. Gerth, Leonard, Street and Deinard Professional Association, 150 South Fifth Street, Minneapolis, MN 55402.

Board decisions and notices are available on our Web site at http://www.stb.dot.gov.

Decided: August 1, 2002.
By the Board, David M. Konschnik, Director, Office of Proceedings.
Vernon A. Williams,
Secretary.

[FR Doc. 02-19943 Filed 8-9-02; 8:45 am]

BILLING CODE 4915-00-P